FEDERAL COMMUNICATIONS COMMISSION

47 CFR Part 73

[DA 03-2689, MM Docket No. 01-84, RM-10067]

Television Broadcast Service; Bay City, MI

AGENCY: Federal Communications Commission.

ACTION: Final rule.

SUMMARY: The Commission, at the request of Vista Communications, Inc. and Pelican Broadcasting Company, Inc. substitutes channel 46+ for channel 61+ at Bay City, Michigan. See 66 FR 20128, April 19, 2001. TV channel 46+ can be allotted to Bay City with a plus offset in compliance with the principal community coverage requirements of § 73.610 at coordinates 43-26-07 N. and 84-26-12 W. However, the allotment of channel 46+ does not provide protection to the DTV channel 46 allotments at Sarnia, Hanover and Straford, Ontario. Nevertheless, Canadian concurrence in the allotment of channel 46+, as a specially negotiated allotment, has been received since Vista Communications could limit its power in the direction of Sarnia, Hanover and Straford to avoid prohibited overlap. With this action, this proceeding is terminated.

DATES: Effective October 9, 2003.

FOR FURTHER INFORMATION CONTACT: Pam Blumenthal, Media Bureau, (202) 418-1600.

SUPPLEMENTARY INFORMATION: This is a synopsis of the Commission's Report and Order, MM Docket No. 01-84, adopted August 18, 2003, and released August 25, 2003. The full text of this document is available for public inspection and copying during regular business hours in the FCC Reference Information Center, Portals II, 445 12th Street, SW., Room CY-A257, Washington, DC 20554. This document may also be purchased from the Commission's duplicating contractor, Qualex International, Portals II, 445 12th Street, SW., Room CY-B402, Washington, DC 20554, telephone (202) 863-2893, facsimile (202) 863-2898, or via e-mail qualexint@aol.com.

List of Subjects in 47 CFR Part 73

Television broadcasting.

Part 73 of Title 47 of the Code of Federal Regulations is amended as follows:

PART 73—[AMENDED]

1. The authority citation for Part 73 continues to read as follows:

Authority: 47 U.S.C. 154, 303, 334 and 336.

§ 73.606 [Amended]

2. Section 73.606(b), the Table of Television Allotments under Michigan, is amended by removing TV channel 61+ and adding TV channel 46+ at Bay City.

Federal Communications Commission.
Barbara A. Kreisman,
Chief, Video Division, Media Bureau.

[FR Doc. 03-22014 Filed 8-27-03; 8:45 am]

BILLING CODE 6712-01-P